DEPARTMENT OF ENERGY

Federal Energy Regulatory Commission

Combined Notice of Filings #1

Take notice that the Commission received the following electric corporate filings:

Docket Numbers: EC12-148-000.

Applicants: James River Genco, LLC, Portsmouth Genco, LLC, Cogentrix of Alamosa, LLC.

Description: Application for Authorization for Disposition of Jurisdictional Facilities and Request for Expedited Action of Cogentrix of Alamosa, LLC, et. al.

Filed Date: 9/27/12.

Accession Number: 20120927-5168.

Comments Due: 5 p.m. ET 10/18/12.

Docket Numbers: EC12-149-000.

Applicants: Marble River, LLC.

Description: Application for Authorization for Disposition of Jurisdictional Facilities and Request for Expedited Action of Marble River, LLC.

Filed Date: 9/28/12.

Accession Number: 20120928-5022.

Comments Due: 5 p.m. ET 10/19/12.

Take notice that the Commission received the following electric rate filings:

Docket Numbers: ER10-2794-007; ER10-2849-006; ER11-2028-007; ER11-3642-006; ER12-1825-004.

Applicants: EDF Trading North America, LLC, EDF Industrial Power Services (NY), LLC, EDF Industrial Power Services (IL), LLC, Tanner Street Generation, LLC, EDF Industrial Power Services (CA), LLC.

Description: Notice of Non-Material Change in Status of EDF Trading North America, LLC, et. al.

Filed Date: 9/28/12.

Accession Number: 20120928-5187.

Comments Due: 5 p.m. ET 10/19/12.

Docket Numbers: ER12-2392-001.

Applicants: Northern States Power Company, A Wisconsin Corporation.

Description: 20120928_Wholesale_Amended2 to be effective 7/2/2012.

Filed Date: 9/28/12.

Accession Number: 20120928-5184.

Comments Due: 5 p.m. ET 10/19/12.

Docket Numbers: ER12-2654-001.

Applicants: World Digital Innovations.

Description: World Digital Innovations submits tariff filing per 35.17(b): mbr_tar to be effective 9/30/2012.

Filed Date: 9/27/12.

Accession Number: 20120927-5186.

Comments Due: 5 p.m. ET 10/18/12.

Docket Numbers: ER12-2698-000.

Applicants: Northern Maine Independent System Administrator.

Description: Northern Maine Independent System Administrator, Inc. submits tariff filing per 35.13(a)(2)(iii: Tariff Revisions to be effective 11/26/2012.

Filed Date: 9/27/12.

Accession Number: 20120927-5171.

Comments Due: 5 p.m. ET 10/18/12.

Docket Numbers: ER12-2699-000.

Applicants: NorthWestern Corporation.

Description: NorthWestern Corporation submits tariff filing per 35.13(a)(2)(iii: SA 641—United Grain Conrad Terminal Line Relocation Amended to be effective 6/29/2012.

Filed Date: 9/28/12.

Accession Number: 20120928-5003.

Comments Due: 5 p.m. ET 10/19/12.

Docket Numbers: ER12-2700-000.

Applicants: Northern States Power Company, A Wisconsin Corporation.

Description: Northern States Power Company, a Wisconsin corporation submits tariff filing per 35.13(a)(2)(iii: 20120928_Wholesale_Amended to be effective 7/2/2012.

Filed Date: 9/28/12.

Accession Number: 20120928-5065.

Comments Due: 5 p.m. ET 10/19/12.

Docket Numbers: ER12-2701-000.

Applicants: Pacific Gas and Electric Company.

Description: Transmission Owner Rate Case 2013 (TO14) to be effective 12/1/2012.

Filed Date: 9/28/12.

Accession Number: 20120928-5172.

Comments Due: 5 p.m. ET 10/19/12.

Docket Numbers: ER12-2702-000.

Applicants: Southwest Power Pool, Inc.

Description: Southwest Power Pool, Inc. submits tariff filing per 35.13(a)(2)(iii: 2198R3 KPP NITSA NOA to be effective 9/1/2012.

Filed Date: 9/28/12.

Accession Number: 20120928-5176.

Comments Due: 5 p.m. ET 10/19/12.

Docket Numbers: ER12-2703-000.

Applicants: Southwest Power Pool, Inc.

Description: Southwest Power Pool, Inc. submits tariff filing per 35.13(a)(2)(iii: 607R16 Westar Energy, Inc. NITSA NOA to be effective 9/1/2012.

Filed Date: 9/28/12.

Accession Number: 20120928-5177.

Comments Due: 5 p.m. ET 10/19/12.

Take notice that the Commission received the following public utility holding company filings:

Docket Numbers: PH12-23-000.

Applicants: AltaGas Ltd.

Description: AltaGas Ltd. submits FERC 65-A Exemption Notification.

Filed Date: 9/27/12.

Accession Number: 20120927-5196.

Comments Due: 5 p.m. ET 10/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2012.
Nathaniel J. Davis, Sr.,
Deputy Secretary.

[FR Doc. 2012-24603 Filed 10-4-12; 8:45 am]

BILLING CODE 6717-01-P